DEPARTMENT OF COMMERCE

National Oceanic and Atmospheric Administration

[I.D. 110701B]

Marine Mammals; Notice of Intent to Prepare an Environmental Assessment for Issuing a Bowhead Whale Subsistence Quota to the Alaska Eskimo Whaling Commission (AEWC) for the years 2003 through 2007

AGENCY: National Marine Fisheries Service (NMFS), National Oceanic and Atmospheric Administration (NOAA), Commerce.

ACTION: Notice of intent to prepare an Environmental Assessment (EA); request for written comments.

SUMMARY: NMFS announces its intention to prepare an EA, in accordance with the National Environmental Policy Act, to assess the impacts of issuing a subsistence quota for bowhead whales to the AEWC for the years 2003 through 2007. NMFS solicits comments and information to facilitate this analysis.

DATES: Comments and information must be postmarked by January 31, 2002.

ADDRESSES: Written comments should be sent to Chief, Marine Mammal Division (F/PR2), Office of Protected Resources, National Marine Fisheries Service, 13th Floor, 1315 East-West Hwy, Silver Spring, MD 20910. Please mark the outside of the envelope with “Comments on Bowhead Whale Analysis.” Comments will not be accepted if submitted via e-mail or Internet.

FOR FURTHER INFORMATION CONTACT: Emily Hanson Menashes, NMFS Office of Protected Resources, 301-713-2322.

SUPPLEMENTARY INFORMATION: At its 1997 annual meeting, the International Whaling Commission (IWC) approved a 5-year quota for the aboriginal take of the Western arctic stock of bowhead whales. The quota allows for a combined total of up to 280 whales to be landed in the years 1998 through 2002 by Alaskan and Russian natives. For each of these years, the number of bowhead whales struck shall not exceed 67, except that any unused portion of a strike quota from any year shall be carried forward and added to the strike quota of any subsequent year, provided that no more than 15 strikes shall be added to the strike quota for any one year.

The basis for the quota was a joint request by the Russian Federation and the United States, showing that the needs of both countries' Native groups could be met with an annual average of 56 landed bowhead whales (or a total of 255 for the Alaska Eskimos and 25 for the Chukotka people over the 5-year period). The annual strike limits and quotas for whales are determined at the beginning of each year after consultation with the Russian government.

At the 52nd annual meeting of the IWC, held in June and July of 2000, the IWC Scientific Committee proposed a structure for block quotas for the bowhead whale aboriginal subsistence hunt to be used as part of the Scientific Committee's proposed revisions to the Aboriginal Whaling Management Plan. This structure calls for five-year blocks with an inter-annual carry-over allowance of up to 50 percent of unused strikes, including strikes from the previous quota block (IWC/52/AS7). The Commission agreed with the proposal from the Scientific Committee in the context of trials.

At the 53rd IWC annual meeting, held in July of 2001, the Commission agreed with the Scientific Committee's recommendations with respect to carry-over. The Scientific Committee also noted that if, under a recommended Strike Limit Algorithm, current aboriginal subsistence need is met, then a revised Schedule paragraph might specify a block strike limit quota with an annual cap on strikes. The Scientific Committee also reiterated its 1999 advice for the Bering-Chukchi-Beaufort Seas stock of bowhead whales, i.e., that it is very likely that a catch limit of 102 whales or less would be consistent with the requirements of the Schedule (IWC/53/4, Report of the Scientific Committee).

Alaska Eskimos have been taking bowhead whales for at least 2,000 years. Alaska Native subsistence hunters take less than one percent of the population of bowhead whales per year. Since 1977, the number of takes has ranged between 14 and 77 per year, depending in part on changes in management strategy and in part on higher estimates of bowhead whale abundance in recent years (NMFS Alaska Marine Mammal Stock Assessments, 2000).

The IWC's 54th annual meeting is scheduled for May of 2002. NMFS is preparing an EA on issuing a quota to the AEWC for a subsistence hunt on bowhead whales for the years 2003 through 2007 in the event that the IWC renews a 5-year aboriginal subsistence quota for bowhead whales. NMFS will evaluate the following four alternatives:

Alternative 1—Grant the AEWC a quota that meets the documented need of Alaskan Eskimos for 255 landed whales over 5 years (2003 through 2007), with an annual strike quota of 67 bowhead whales per year, where no unused strikes are added to the strike quota for any one year.

Alternative 2—Grant the AEWC a quota that meets the documented need of Alaskan Eskimos for 255 landed whales over 5 years (2003 through 2007), with an annual strike quota of 67 bowhead whales per year, where no more than 15 unused strikes are added to the strike quota for any one year.

Alternative 3—Grant the AEWC a quota that meets the documented need of Alaskan Eskimos for 255 landed whales over 5 years (2003 through 2007), with an annual strike quota of 67 bowhead whales per year, where, for unused strikes, up to 50 percent of the annual strike limit is added to the strike quota for any one year.

Alternative 4 (No Action)—Do not grant the AEWC a quota.

Information Solicited

To ensure that the review is comprehensive and based on the best available information, NMFS is soliciting information and comments from any interested party concerning issuing a bowhead whale quota to the AEWC of 255 landed whales over 5 years (2003 through 2007). NMFS is particularly interested in information on the affected environment or environmental consequences of issuing a quota. It is requested that data, information, and comments be accompanied by (1) supporting documentation, and (2) the name, address, and affiliation of person submitting data. Following publication of the draft EA, NMFS will solicit additional public input.

Dated: December 14, 2001.
Rebecca J. Lent,
Deputy Assistant Administrator for Regulatory Programs, National Marine Fisheries Service.

[FR Doc. 01-31263 Filed 12-18-01; 8:45 am]

BILLING CODE 3510-22-S